DEPARTMENT OF THE INTERIOR

National Park Service

[NPS-WASO-NAGPRA-NPS0037737; PPWOCRADN0-PCU00RP14.R50000]

Notice of Inventory Completion: University of Missouri Museum of Anthropology, Columbia, MO

AGENCY: National Park Service, Interior.

ACTION: Notice.

SUMMARY: In accordance with the Native American Graves Protection and Repatriation Act (NAGPRA), the University of Missouri Museum of Anthropology has completed an inventory of human remains and associated funerary objects and has determined that there is a cultural affiliation between the human remains and associated funerary objects and Indian Tribes or Native Hawaiian organizations in this notice.

DATES: Repatriation of the human remains and associated funerary objects in this notice may occur on or after May 13, 2024.

ADDRESSES: Candace Sall, University of Missouri Museum of Anthropology 1020 Lowry Sreet, Columbia, MO 65211, telephone (573) 882-9157, email nagpra@missouri.edu.

SUPPLEMENTARY INFORMATION: This notice is published as part of the National Park Service's administrative responsibilities under NAGPRA. The determinations in this notice are the sole responsibility of the University of Missouri Museum of Anthropology, and additional information on the determinations in this notice, including the results of consultation, can be found in the inventory or related records. The National Park Service is not responsible for the determinations in this notice.

Abstract of Information Available

Based on the information available, human remains representing at least, 457 individuals have been reasonably identified and 38,132 associated funerary objects from 57 sites (see site descriptions). In the 1950s and 1960s, American Archaeology Division at the University of Missouri completed several surveys and excavations under contract for the National Park Service, and later for the Corps of Engineers, in Benton, Cedar, Dade, Henry, Hickory, Polk and St. Clair Counties, Missouri. In 2009, the Kansas City Corps of Engineers determined the work on these sites occurred before land was purchased and control of the collection was passed to the University of Missouri Museum of Anthropology.

23BE3, Wray-Martin Mound I, Benton County, Missouri. This site contains 16 individuals, including one child (aged 6-8 years.), one infant, one adolescent (aged 14-16.5 years), 12 adults, one adult male, excavated in 1963 by W. Raymond Wood and UMC staff as part of the Harry S. Truman Dam and Reservoir project. This site also contains 341 associated funerary objects, including 131 debitage, one hammerstone, 11 misc. shells, one shell bead, two soil samples, one bone awl in two parts, one cut/modified wolf maxilla, one gouge, 28 projectile point/knife (including one oval knife, one Scallorn point, two Rice side notched points), 22 bifaces, six misc. stone, 134 misc. faunal fragments, one flake tool (uniface scraper), and one drill.

23BE6, Fairfield Mound, Benton County, Missouri. This site contains 43 individuals, including 28 adults, two adult females, three adult males, three children (aged 1-3, 1-3, 5-9 years), two adolescents (both aged 8-14 years), four infants, and one individual, excavated in 1958-1964 by W. Raymond Wood and UMC staff as part of the Harry S. Truman Dam and Reservoir project. This site also contains 4,054 associated funerary objects, including 101 ceramic fragments, 2,162 debitage, 106 misc. shell fragments, 830 misc. faunal fragments, 27 cores, seven groundstones, two mano, one stone abrader, two hammerstones, two soil samples, 51 shell beads, 69 bone beads, 26 utilized flakes/expedient tools, four drills, 177 bifaces, 328 projectile points/knife, one bone awl, one bone tool, 15 hematite, 90 misc. stone (including five calcite), five pollen samples, one sandstone, one shell gorget, 17 glass fragments, two wood (including one copper stained piece of wood), one seed, one fossil, 21 metal fragments, one metal button, and two charcoal samples.

23BE108, No site name, Benton County, Missouri. This site contains one adult, excavated by UMC staff in 1960, as part of the Harry S. Truman Dam and Reservoir Project. This site also contains 4,501 associated funerary objects, including 3,360 misc. faunal fragments, 532 misc. stone, one projectile point/knife, 141 misc. shell, 416 debitage, one historic ceramic fragment, eight charred wood, eight seeds, three soil samples and 21 charcoal samples, and 10 metal fragments.

23BE117, Karr's Camp Mound, Benton County, Missouri. This site contains nine individuals, including six adults, one infant, one child (aged 4-8 years); and one individual, excavated by UMC W. Raymond Wood and UMC staff 1962-1963 as part of the Harry S. Truman Dam and Reservoir Project. This site also contains 253 associated funerary objects, including 83 debitage, two flake tools (including a possible scraper), six bifaces, one drill, 16 projectile point/knives (including seven Scallorn points, two Cooper points, two Rice side notched points), three hematite, five misc. shell, 13 shell beads (including two conch shell disc beads, one Anculosa bead), two bone beads, two worked bone objects, two wood fragments, 101 misc. faunal fragments, and 17 misc. stone.

23BE118, Devil's Bluff Mound, Benton County, Missouri. This site contains one adult, excavated by Rolland E. Pangborn and University of Missouri staff in 1964 as part of the Harry S Truman Dam and Reservoir project. This site also contains 124 associated funerary objects, including 82 debitage, two bifaces, 10 projectile point/knives (including three Rice side notched points, one “other dart”, two dart point tips, four Scallorn points), three ground hematite, two misc. stone, two misc. shell, five snail shell, nine misc. faunal fragments, two bone beads, one soil sample, three pollen samples, one (charred) wood, and two charcoal samples.

23BE120, Cairn Bluff, Benton County, Missouri. This site contains one adult, excavated by University of Missouri staff as part of the Harry S Truman Dam and Reservoir project in 1962 by Rolland Pangborn, Donna Roper, and University of Missouri staff for contract DACW41-77-C-0132. This site also contains two associated funerary objects, including one hafted biface and one hematite.

23BE128, Wray-Martin Mound 2, Benton County, Missouri. This site contains six individuals, including four adults, one child (aged 2-6 years), and one adolescent, excavated in 1963 by W. Raymond Wood, Edward Sudderth, and University of Missouri staff as part of the Harry S Truman Dam and Reservoir project. This site also contains 144 associated funerary objects, including 27 debitage, one flake tool, 10 bifaces, 11 projectile points/knife, two ground hematite, one misc. stone, one gastropod/snail, four charcoal samples, one soil sample, 15 dog faunal fragments remains (including one dog mandible with teeth), three copper beads, five bone beads, one misc. shell, two Anculosa shell beads, four historic ceramics, one drill, and 55 misc. faunal fragments.

23BE135, Melanin Mound 1, Benton County, Missouri. This site contains eight individuals, including seven adults and one child (aged 2-3 years), excavated by W. Raymond Wood and University of Missouri staff in 1964 as part of the Harry S Truman Dam and Reservoir project. This site also contains 245 associated funerary objects, including 10 Anculosa shell beads, seven projectile points/knife (including one knife fragment), 32 misc. faunal fragments, two bone beads, two bifaces, one flake tool, one groundstone fragment, 151 debitage, 12 misc. stone, one soil sample, two pollen sample, and 24 charred hickory nutshell fragments.

23BE136, Melanin Mound 2, Benton County, Missouri. This site contains 12 individuals, including nine adults, one adult male, one child (aged 2-4 years), and one juvenile, excavated by W. Raymond Wood and University of Missouri staff in 1964 as part of the Harry S Truman Dam and Reservoir project. The site also contains 357 associated funerary objects, including 58 debitage, two hematite, one groundstone fragment, 45 misc. stone, three limonite, 29 misc. shell, one gastropod/snail shell, 11 soil samples, 13 projectile point/knife (including eight Rice side notched points, two chipped stone knife fragments, one projectile point base), one charcoal sample, 12 biface fragments, 93 dog faunal fragments remains, five polished bone objects, and 83 misc. faunal fragments.

23BE137, Barren Cairn, Benton County, Missouri. This site contains five individuals, including four adults and one child (aged less than 5 years), excavated by Rolland E. Pangborn and University of Missouri staff in 1964 as part of the Harry S Truman Dam and Reservoir project. This site also contains 88 associated funerary objects, including 17 debitage, 15 flake tools, two projectile points/knife, 22 biface, one groundstone, one hematite, one limonite, two soil samples, three pollen samples, and 24 misc. faunal fragments.

23CE32, Buck's Cave, Cedar County, Missouri. This site contains one individual, excavated by R. Bruce McMillan, Rolland E. Pangborn, and University of Missouri staff in 1965 as part of the Hackleman Corner Reservoir project. This site also contains 246 associated funerary objects, including 159 debitage, 51 misc. shell, one charcoal sample, and 35 misc. faunal fragments.

23CE104, Simmons Mound, Cedar County, Missouri. This site contains six individuals, including five adults and one child, excavated in 1961 by Carl H. Chapman and University of Missouri staff as part of the Stockton Lake/Reservoir project. This site also contains 133 associated funerary objects, including 41 debitage, nine misc. stone, two charcoal samples, two soil samples, two cores, two bifaces, two scrapers, two unifaces, one drill, 25 misc. faunal fragments, two coyote claws, 33 projectile points (including 28 Scallorn points, one Rice side notched point, one Gary point, three projectile points), and 10 ceramic fragments.

23CE111, Mache Hollow Shelter, Cedar County, Missouri. This site contains one adult, excavated in 1963 by W. Raymond Wood, Rolland E. Pangborn, and University of Missouri staff as part of the Stockton Lake/Reservoir project. This site also contains eight associated funerary objects, including eight misc. faunal fragments.

23CE119, Coy Jones Farm Cabin Cairn, Cedar County, Missouri. This site contains one adult, excavated in 1961 by W. Raymond Wood, Rolland E. Pangborn, and University of Missouri staff as part of the Stockton Lake/Reservoir project. This site also contains one associated funerary object, including one misc. faunal fragments.

23CE122, Clemons Mounds, Cedar County, Missouri. This site contains 27 individuals, including 12 adults (two of which are possibly male), 14 children, and one infant, excavated by W. Raymond Wood, Rolland E. Pangborn, R. Bruce McMillan, and University of Missouri staff 1962-1963 as part of the Stockton Reservoir Project. This site also contains 565 associated funerary objects, including 233 debitage, 42 ceramic fragments (including one historic ceramic), one drill, four bifaces, 11 cores, 45 misc. stone, eight limestone, 123 misc. faunal fragments, two groundstones, five shell beads, 16 bone bead, 16 snail shells, two flake tools, and 57 projectile points (including 13 Rice side-notched points, 33 Cooper points, one knife, one Guffy-like point, one Fresno point, three darts, one table rock stem, and one other hafted).

23CE123, Broyles Cairn, Cedar County, Missouri. This site contains four individuals, including one adult, one adolescent (aged 9.5-14.5 years), one child (aged 7.5-12.5 years), and one infant (aged 1.5-2 years), collected by Carl Chapman and University of Missouri staff 1961 as part of the Stockton Reservoir Project. This site also contains 643 associated funerary objects, including 110 debitage, nine biface, 17 misc. stone, 42 misc. shells, 150 shell beads (including 135 Anculosa shell beads), 21 bone beads (including 11 larger disk beads previously labeled as tubular beads and five tubular beads), 176 misc. faunal fragments, 26 projectile points (including four Scallorn points, seven Huffaker points, two Washita points, one hafted biface, one Fresno point, eight Cahokia points and four Rice side-notched points), five bone pin fragments, one celt, one mano, 52 ground hematite, 27 ceramic fragments, two ceramic (pipe) fragments, two seeds, one groundstone, and one hammerstone.

23CE135, Little Mound, Cedar County, Missouri. This site contains one individual, collected from the surface in 1964 as part of the Stockton Reservoir Project. This site also contains five associated funerary objects, including one mano, one metate, one axe fragment, and two debitage.

23CE141, DeGraffenreid Mound, Cedar County, Missouri. This site contains one adult, excavated by Rolland Pangborn and University of Missouri staff 1964 as part of the Stockton Reservoir Project. This site also contains 11 associated funerary objects, including one biface, two debitage, and eight misc. faunal fragments.

23CE148, Umber Point Mound, Cedar County, Missouri. This site contains 24 individuals, including 11 adults, two adult females, six children, and five infants, excavated by W. Raymond Wood, Rolland Pangborn, and University of Missouri staff 1965 as part of the Stockton Reservoir Project. This site also contains 515 associated funerary objects, including 35 projectile points (including four Rice side-notched points, two Scallorn points, one Cupp type point, one other point), one biface, three flake tools, one core, 225 debitage, 15 misc. stone, one sandstone, two hematite, 14 fragments of groundstone pipe, 38 shell beads (including 12 Marginella, 15 Anculosa, three tubular conch shell), one ceramic fragment, two drill, one groundstone, four mano, five ochre, 145 misc. faunal fragments, one bone awl, four polished bone objects, two worked bone objects, two bone beads, two turtle carapaces, three charred wood, one nutshell, two soil samples, three pollen samples, and two misc. shells.

23CE150, Sorter's Bluff Mound, Cedar County, Missouri. This site contains 27 individuals, including 12 adult, three adult males, three adult females, one adolescent, five children, and three infants, excavated by W. Raymond Wood, Rolland Pangborn, and University of Missouri staff, 1965, as part of the Stockton Reservoir Project. This site also contains 820 associated funerary objects, including five projectile points (including one Scallorn point, one Reed point, one other point, two Harrel Cahokia points), 115 debitage, one biface, 11 misc. stone, 185 misc. faunal fragments, 18 seeds, five soil samples, one ceramic fragments, 319 shell beads (including 19 periwinkle, six conch disc, one Olivella, 42 Anculosa, 50 Marginella), 36 worked bone objects (including one spatulate), one turtle shell bowl, one mano, two groundstones, five stone axes, one ochre, 11 antler tools, two bone beads, 99 misc. shell, and two shell objects.

23CE152, Bowling Stone Mound, Cedar County, Missouri. This site contains eight individuals, including one adult male, four adults, one adolescent, one child, and one infant, excavated in 1965 by W. Raymond Wood and University of Missouri staff as part of the Stockton Lake/Reservoir archaeological salvage project. This site also contains 1,105 associated funerary objects, including 126 debitage, one groundstone fragment, five limestone, one misc. stone, three bifaces, six misc. shell, 426 ceramic fragments, four pollen samples, nine deer bone tool fragments, one shell brooch, two partially reconstructed celts, two partially reconstructed mano, 448 misc. faunal fragments, five Scallorn points, and 66 botanical seeds (including three nutshells and five charred corn kernels).

23CE155, Hogback Cairn, Cedar County, Missouri. This site contains seven individuals, including one adult female, four adults, and two children (aged 3-5 and 6-10 years), collected by Robert Bray, and UMC staff 1954 as part of the Stockton Reservoir Project. Based on archives, this is the same site as 23CE34. This site also contains 46 associated funerary objects, including seven debitage, two sandstone, 11 misc. stone, 23 misc. faunal fragments, one biface, and two misc. shell.

23CE190, Amity Mound, Cedar County, Missouri. This site contains three individuals, including two adults and one child, collected by Bruce McMillan, Rolland Pangborn, and University of Missouri staff in 1964, as part of the Hackleman Corner Reservoir project. This site also contains 468 associated funerary objects, including two debitage, one hematite, 169 misc. stone, one ochre, one ceramic fragments, 92 misc. faunal fragments, 198 misc. shell, two fossils, one charcoal sample, and one iron hook.

23CE198, Alberta Mound, Cedar County, Missouri. This site contains two individuals, including one adult and one child, excavated by Bruce McMillan, Rolland Pangborn and University of Missouri staff in 1964 as part of the Hackleman Corner Reservoir project, which was never built. This site also contains 364 associated funerary objects, including 75 misc. faunal fragments, four shell bead fragments (conch), 40 misc. shell, 105 debitage, 133 misc. stone, three groundstone pipe fragments, three cores, and one possible knife tip.

23DA201, Morgan Mound, Dade County, Missouri. This site contains 14 individuals, including six adults, six children, one infant, and one individual, excavated by W. Raymond Wood, Rolland Pangborn, and University of Missouri staff in 1965 as part of the Stockton Reservoir project. This site also contains 30 associated funerary objects, including 21 debitage, two misc. faunal fragments, one projectile point, two misc. stone, two sandstone, and two misc. botanicals.

23DA216, Sand Bluff Cairn, Dade County, Missouri. This site contains one individual, excavated in 1964 by R. Bruce McMillan and the University of Missouri staff as part of the Stockton Lake/Reservoir archaeological salvage project. This site also contains 340 associated funerary objects, including 253 debitage, three misc. stone, one misc. faunal fragments, three flake tools, six dart points, one other biface, one core, 45 ceramic fragments, 21 hafted bifaces (including 13 Scallorn points, five Rice side notched points, one Marshall point, one Standlee Langtry point, one Guffy-like point), one corn kernel, one misc. seed, one galena, and three charcoal samples.

23DA219, Matthews Cairn/Mound, Dade County, Missouri. This site contains 14 individuals, including seven adults, one adult male, one adolescent (aged ~14 years), and five children (aged 3-6, 8-9, 10-13, 8-14 and 7-12 years), excavated by W. Raymond Wood and University of Missouri staff in 1964 as part of the Stockton Reservoir project. This site also contains 619 associated funerary objects, including 62 debitage, two flake tool, four misc. stone, one ochre, 19 bone beads, 52 misc. shell, one gastropod/snail, 53 shell beads, three pollen samples, eight projectile point/knife, three bifaces, one sandstone abrader, one misc. sandstone, six bone awls, two worked bone tools, one elbow pipe fragment, one jar, 63 ceramic fragment, three mano, 61 seeds (including approximately one oz burned nutshells and four charred corn kernels), four soil samples, two charcoal samples, and 266 misc. faunal fragments.

23DA221, Comstock Mound, Dade County, Missouri. This site contains one adult female, excavated by W. Raymond Wood and University of Missouri staff in 1964 as part of the Stockton Reservoir project. This site also contains 919 associated funerary objects, including 24 ceramic fragments, two flake tools, 14 bifaces, nine projectile points, one groundstone (nuttingstone), 42 misc. faunal fragments, two rolled silver metal items, three copper fragments, 12 shell beads (thin tubes), 632 glass/porcelain beads, two pollen samples, and 176 debitage.

23DA222, Tunnel Bluff Mound, Dade County, Missouri. This site contains 13 individuals, including four adults, two adolescents (aged 9-14 and 16-18 years), four children (aged 2-3, 3.5-5, 5-7 and 9.5-11 years), two infants (aged 6 months-2 years), and one fetal infant, excavated by W. Raymond Wood and University of Missouri staff in 1964 as part of the Stockton Reservoir project. This site also contains 308 associated funerary objects, including 73 debitage, 26 misc. faunal fragments, 12 misc. sandstone, two sandstone slabs, 52 bone tool fragments, 25 bone beads, three pollen samples, 10 Scallorn points, five other points, five bifaces, one drill, four ceramic fragments, two groundstone pipes, five mano, one hammerstone, one hematite, two turtle shell bowls, 37 misc. shell, 40 shell beads, one misc. stone, and one soil sample.

23DA225, Bunker Hill Mound, Dade County, Missouri. This site contains 29 individuals, including one adult female, nine adults, 14 children, and five infants, excavated by W. Raymond Wood, Rolland Pangborn, and University of Missouri staff in 1964 as part of the Stockton Reservoir project. This site also contains 1,019 associated funerary objects, including 125 debitage, seven flake tools, 13 bifaces, 20 projectile point/knife (including two Scallorn points), one drill, seven misc. stone, 298 shell beads, one hematite, two groundstone pipes, one celt, one mano, one worked bone awl, two bone beads, 16 worked bone tools, seven soil samples, 48 misc. faunal fragments, three turtle shells, one charred wood, 123 ceramic fragments, six misc. shell, and 336 botanical (including 140 charred hickory and hazelnut nuts and 192 charred corn kernels).

23DA226, Divine Mound, Dade County, Missouri. This site contains 30 individuals, including nine adult males, 10 adults, three individuals, six children, two infants, excavated by W. Raymond Wood, Rolland Pangborn, and University of Missouri staff in 1964 as part of the Stockton Reservoir project. This site also contains 666 associated funerary objects, including 25 debitage, nine bifaces, 12 hematite, three hammerstones, 28 misc. shell fragments, seven shell beads, three shell gorget, three soil samples, two pollen samples, one mano, one misc. stone, one greenstone celt, one bone bead, four bone tool fragments, one tip of a deer ulna tool, one fragment of large bone spatulate, three bone awl, three modified turtle fragments, 16 projectile points/knife (including one knife, seven Scallorn points, one WRE point, one other point), one clay pipe, two groundstone pipes, 296 misc. faunal fragments, 190 faunal remains from dog burial, 47 ceramic fragments, and six seeds.

23DA237, Turnback Cairn, Dade County, Missouri. This site contains one adult, excavated by W. Raymond Wood and UMC staff in 1964 as part of the Stockton Reservoir project. This site also contains 114 associated funerary objects, including 79 debitage, one pebble chopper/uniface, seven bifaces, one drill, 13 projectile point/knives (including one Marshall point, two Scallorn points, five Reed points, one Keota point, one Guffy-like point, one dart; two misc. hafted bifaces), one groundstone mano, three misc. stone, eight wood, and one pollen sample.

23DA246, Paradise Tree Mound, Dade County, Missouri. This site contains 11 individuals, including two adult males, one adult female, two adults, two adolescents, three children, and one infant, excavated by W. Raymond Wood and University of Missouri staff in 1965 as part of the Stockton Reservoir project. This site also contains 334 associated funerary objects, including 88 debitage, two hematite, one limestone, 20 misc. shell, three soil samples, three pollen samples, seven projectile points (including two corner notched dart points, one Scallorn point, and four Rice side notched points), two ceramic fragments, one ceramic pipe (four fragments), one bone spatulate (broken), 16 bone spatulate fragments, one bone awl, four bone beads, two biface fragments, 163 shell beads, two misc. stone, 16 misc. faunal fragments, one wood, and one charcoal sample.

23DA250, Eureka Mound, Dade County, Missouri. This site contains three individuals, including one male, one female, and one child, excavated by W. Raymond Wood and University of Missouri staff 1964-1965 as part of the Stockton Reservoir project. This site also contains 228 associated funerary objects, including 42 misc. faunal fragments (including one deer antler, one deer ulna, three deer scapulae, 16 fresh water drum teeth, one deer tibia), one chert pebble hammerstone, eight bifaces, six flake tools, one core, six projectile points, five bone pin fragments (including one stained green), one groundstone, 27 ceramic fragments, 118 debitage, nine copper fragments, one charcoal sample, two pollen samples, and one Spiro engraved water bottle dated A.D. 1000-1450.

23DA269, No site name, Dade County, Missouri. This site contains one adult, collected by P. Nichols, and Espey, Huston and Associates in 1967 as part of the Stockton Reservoir Project. This site also contains one associated funerary object, including one drill.

23HE1, Don Bell Site, Henry County, Missouri. This site contains one individual, excavated in 1950 by University of Missouri staff. Part of the Harry S Truman Reservoir collection. This site also contains 156 associated funerary objects, including one misc. stone, one soil sample, and 154 ceramic fragments.

23HE139, Mandrake Mound, Henry County, Missouri. This site contains 13 individuals including, six adults, three adult males, two juveniles, one child (aged 2-4 years), and one adolescent (aged 12-13 years), excavated by W. Raymond Wood, Rolland Pangborn, and University of Missouri staff as part of the Harry S Truman Reservoir project. This site also contains 45 associated funerary objects, including 22 debitage, four sandstone, two misc. stone, five misc. shells, seven soil samples, three misc. faunal, and two pollen samples.

23HE145, Chauncey Site, Henry County, Missouri. This site contains one adult (possibly female), excavated by W. Raymond Wood, Rolland Pangborn, and University of Missouri staff in 1962 as part of the Harry S Truman Reservoir Project. This site also contains 16 associated funerary objects, including one groundstone mano/hammerstone, one curved knife, one double pointed flint tool, 11 misc. faunal fragments (including one beaver tooth), and two soil samples.

23HE147, Gobbler's Knob Cairn, Henry County, Missouri. This site contains five individuals, including two adults, one adult female, one adult male, and one infant, excavated by W. Raymond Wood, Rolland Pangborn and UMC staff in 1962 as part of the Harry S. Truman Reservoir project. This site also contains 112 associated funerary objects, including 33 debitage, two biface, eight misc. stone, three ochre, five wood, one nutshell, eight misc. shell, 39 misc. faunal fragments, one metal fragment, one charcoal sample, one fossil, six pollen samples, and four soil samples.

23HE148, Ilo Cairns, Henry County, Missouri. This site contains two individuals, including one adult and one child (aged 3-5 years), excavated in 1960 by W. Raymond Wood, Rolland Pangborn, and University of Missouri staff as part of the Harry S Truman Reservoir project. This site also contains 278 associated funerary objects, including 121 debitage, one core, one scraper, two bifaces, one Scallorn point, eight sandstones (one is tear-drop shaped and one is bipointed), seven misc. stone, one limestone, two soil samples, 62 gastropods, 65 misc. faunal fragments, six seeds, and one charcoal sample.

23HE150, Eckardt Cairn, Henry County, Missouri. This site contains 15 individuals, including one adolescent (aged 11-14 years), 10 adults, one adult male, and three individuals, excavated by W. Raymond Wood, Rolland Pangborn, and UMC staff in 1968 as part of the Harry S. Truman Reservoir project. This site also contains 554 associated funerary objects, including 41 debitage, two cores, 6 projectile points (including four Scallorn points and two rice side notched points), one clay pipe, 14 misc. stone, 339 misc. faunal fragments, one groundstone fragment, one gorget, 49 shell beads (including 35 Anculosa, four conch, five Marginella, six tubular), three bone awls, three flake tool (including one scraper), one biface, one misc. shell, two bone beads, four botanical (including pecan shell), 22 crinoid beads, one pollen sample, 49 fossils, 13 limestone, and one soil sample.

23HI18, Lytle Cairn, Hickory County, Missouri. This site contains one adult, excavated by W. Raymond Wood and University of Missouri staff in 1958 as part of the Harry S Truman Reservoir project. This site also contains 478 associated funerary objects, including 216 debitage, four bifaces, three misc. shell, 203 misc. faunal fragments, 33 ceramic fragments, one hematite, five misc. stone, eight projectile points, one flake tool, and four shell disk beads.

23HI30, Mount Indian Cairn/Murelle Mound, Hickory County, Missouri. This site contains six individuals, including three adults and three children, excavated in 1957 by W. Raymond Wood and University of Missouri staff as part of the Pomme de Terre/Harry S Truman Reservoir projects. This site also contains 931 associated funerary objects, including five ceramic vessels, 27 bifaces, 425 debitage, 74 ceramic fragments, six projectile points, one core, 29 hematite, one misc. stone, one sandstone, two ochre, 244 misc. faunal fragments, three canid teeth, seven flake tools, 63 misc. shell, and 43 shell beads.

23HI87, No site name, Hickory County, Missouri. This site contains one individual, collected by W. Raymond Wood and UMC in 1957 as part of the Harry S Truman Reservoir project. This site also contains nine associated funerary objects, including nine misc. faunal fragments.

23HI149, Cave Knob Mound, Hickory County, Missouri. This site contains three individuals, including one adult and two children (aged 3 and 8-13 years), excavated by W. Raymond Wood and UMC staff as part of the Harry S. Truman Reservoir project. This site also contains 258 associated funerary objects, including one red ceramic fragment, 10 bifaces, two drills, 10 projectile points (including two Rice sided notched points, one Scallorn points, two projectile point bases, one chert knife), one sandstone mano, 33 misc. faunal fragments (including one modified wolf maxilla, three unmodified deer teeth), 156 utilized flakes, one core, and 44 debitage.

23HI172, Blackwell Cave, Hickory County, Missouri. This site contains one adult, Collected by Carl Falk and UMC staff in 1966 as part of the Pomme de Terre Reservoir project. This site also includes 11,127 associated funerary objects, including 8,354 misc. faunal fragments, 1,738 debitage, 19 misc. stone, 791 misc. shell, 22 bifaces, 15 hafted bifaces, two drills, three hematite, one wood, three worked bone objects, 20 charcoal samples, eight uniface, seven cores, 53 misc. botanical, 75 ceramic fragments, one ochre, 14 pollen samples, and one glass.

23PO165, Star Ridge Cairn, Polk County, Missouri. This site contains two individuals, including one adult and one child, excavated by W. Raymond Wood and University of Missouri staff in 1957-1958 as part of the Pomme de Terre Reservoir project. This site also contains 93 associated funerary objects, including 20 debitage, four sandstones, one shell bead, two groundstone fragments, 65 misc. faunal fragments, and one hafted biface.

23PO300, Madrigal Mound, Polk County, Missouri. This site contains 19 individuals, including 10 adults, one adult female, two infant, three children, and three adolescents, excavated by W. Raymond Wood and University of Missouri staff in 1962 as part of the Stockton Reservoir project. This site also contains 545 associated funerary objects, including 103 ceramic fragments, nine bags of charred corn kernels, 15 debitage, two flake tool, one ground hematite, one biface, two sandstone, two misc. stone, 30 misc. faunal fragments, two gastropod/snail, nine misc. shell, 321 shell beads, six wood, one bone bead, eight soil samples, two pollen samples, nine projectile point/knife, one mano, five bone awl fragments, and 16 fragmented bone/antler bracelet segments.

23PO301, Petite Cote Cairn, Polk County, Missouri. This site contains one adult, excavated by W. Raymond Wood and University of Missouri staff in 1963 as part of the Stockton Reservoir project. This site also contains 251 associated funerary objects, including 199 misc. faunal fragments, three soil samples, 38 debitage, one misc. stone, two lead objects, one Huffaker point, one biface, two brass fragments, and four misc. shells.

23PO304, Cordwood Cairn, Polk County, Missouri. This site contains six individuals, including one infant, two children, and three adults, excavated by W. Raymond Wood and University of Missouri staff in 1963 as part of the Stockton Reservoir project. This site also contains 616 associated funerary objects, including 44 debitage, 23 flake tools, three soil samples, two bifaces, five projectile points/knife, 100 misc. faunal fragments, three ceramic fragments, one gastropod, 433 shell beads, and two dolomite ear spools.

23PO306, Slick Rock Mound, Polk County, Missouri. This site contains 21 individuals, including two infants, two children (aged 10-12, 5-7 years), one adolescent (aged 12-16 years), nine adults, three adult males, and four adult females, excavated by W. Raymond Wood and University of Missouri staff 1962-1963 as part of the Stockton Reservoir project. This site also contains 423 associated funerary objects, including nine ceramic fragments, 94 debitage, 25 flake tools, 13 limestone, 18 misc. stone, four sandstone, two bifaces, seven misc. shell, three seeds, one wood, 106 misc. faunal fragments, four soil samples, two drills, two bone awl fragments, three bone pins, eight shell tool fragments (two rings, six worked shell), 115 shell beads, one core, and six projectile points.

23PO307, King's Curtain Mound, Polk County, Missouri. King's Curtain Mound. This site contains 18 individuals, including one juvenile, one infant, three children (aged 2-6, 6-10, 9-12 years), one adolescent, two adult females, one adult male, seven adults, and two individuals, excavated by W. Raymond Wood and University of Missouri staff in 1963 as part of the Stockton Reservoir project. This site also contains 606 associated funerary objects, including 25 debitage, 17 projectile point/knife, one sandstone, three ochre/limonite, five misc. stone, one iron ore, seven soil samples, six seeds, one charcoal sample, 302 shell beads (including 200 Anculosa beads, three Marginella beads, 62 burnt shell beads, four disc beads), one fragmented groundstone pipe, two gorgets, one drill, two flake tools, 17 bifaces, three bone awls fragments, four worked bone objects, 14 misc. shell, one polished bone, 157 misc. faunal fragments, six clay pipes, 29 ceramic fragments, and one ceramic vessel.

23SR108, Monegaw Cave/Spy Cave, St. Clair County, Missouri. This site contains two individuals, including one adult and one child, and was found in collections in 2021 from the 1959 survey surface collection by Ralph Duerr and Mett Shippee. This site also contains 907 associated funerary objects, including 290 misc. faunal fragments (including five turtle shell fragments), 32 misc. shell, two bifaces, one wood, four unifaces, 575 debitage, and three misc. stone.

23SR111, Monte Verde Mound, St. Clair County, Missouri. This site contains one individual, collected by Carl H. Chapman and University of Missouri staff in 1960 as part of the Kaysinger Bluff Reservoir project. This site also contains 126 associated funerary objects, including 122 misc. faunal fragments, one debitage, one Rice side notched point, one hafted biface, and one drill.

23SR135, Woody Cairn, St. Clair County, Missouri. This site contains one individual, collected by Carl H. Chapman and University of Missouri staff in 1960-1962 as part of the Kaysinger Bluff Reservoir project. This site also includes 217 associated funerary objects, including 103 debitage, eight bifaces, 10 projectile points/knives, 81 sandstone, one misc. stone, one misc. shell, seven gastropods, one misc. faunal fragments, two wood, and three charcoal samples.

23SR138, Magistrate Bluff Mound, St. Clair County, Missouri. This site contains three individuals, including one adult female, one adolescent (aged 12-19.5 years), and one individual, excavated by W. Raymond Wood and University of Missouri staff in 1963 as part of the Kaysinger Bluff Reservoir project. This site also contains 223 associated funerary objects, including 112 debitage, 24 projectile points (including seven Rice side notched points, one dart chou biface, 16 Scallorn points, and two crisp ovate burls), 17 ochre, 20 bifaces, one hematite, three unifaces, two drills, one misc. shell, one worked bone object, 23 conch shell beads, 15 worked conch shell fragments, and four shell gorget fragments.

23SR141, Briley Creek, St Clair County, Missouri. This site contains one adult, collected by Carl H. Chapman and University of Missouri staff in 1965 as part of the Kaysinger Bluff Reservoir project. This site also contains 544 associated funerary objects, including one ceramic fragment, 452 debitage, one drill, two flake tools, 14 bifaces, seven projectile points, 16 misc. stone, 33 misc. faunal fragments, 17 misc. shell, and one charcoal sample.

Cultural Affiliation

Based on the information available and the results of consultation, cultural affiliation is clearly identified by the information available about the human remains and associated funerary objects described in this notice.

Determinations

The University of Missouri Museum of Anthropology has determined that:

• The human remains described in this notice represent the physical remains of 457 individuals of Native American ancestry.

• The 38,132 objects described in this notice are reasonably believed to have been placed intentionally with or near individual human remains at the time of death or later as part of the death rite or ceremony.

• There is a reasonable connection between the human remains and associated funerary objects described in this notice and The Osage Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 13, 2024. If competing requests for repatriation are received, the University of Missouri Museum of Anthropology must determine the most appropriate requestor prior to repatriation. Requests for joint repatriation of the human remains and associated funerary objects are considered a single request and not competing requests. The University of Missouri Museum of Anthropology is responsible for sending a copy of this notice to the Indian Tribes and Native Hawaiian organizations identified in this notice.

Authority: Native American Graves Protection and Repatriation Act, 25 U.S.C. 3003, and the implementing regulations, 43 CFR 10.10.

Dated: April 3, 2024.
Melanie O'Brien,
Manager, National NAGPRA Program.

[FR Doc. 2024-07717 Filed 4-10-24; 8:45 am]

BILLING CODE 4312-52-P